DEPARTMENT OF TRANSPORTATION

Federal Highway Administration

Rescinding the Notice of Intent for an Environmental Impact Statement; Huntsville, Madison County, Alabama

AGENCY: Federal Highway Administration (FHWA), DOT.

ACTION: Rescind Notice of Intent.

SUMMARY: The FHWA is issuing this notice to advise the public that the 1996 Record of Decision (ROD) and the Final Environmental Impact Statement (FEIS) for projects M-8508(1) and ST-697-7, the Huntsville Southern Bypass and Weatherly Road Extension, in Madison County, Alabama is rescinded.

FOR FURTHER INFORMATION CONTACT: Mr. Mark D. Bartlett, Division Administrator, Federal Highway Administration, 9500 Wynlakes Place, Montgomery, Alabama 36117; Email: mark.bartlett@dot.gov; Telephone: (334) 274-6350.

SUPPLEMENTARY INFORMATION: The FHWA, in cooperation with the Alabama Department of Transportation (ALDOT), is rescinding the ROD and FEIS for projects M-8508(1) and ST-697-7, the Huntsville Southern Bypass and Weatherly Road Extension. The proposed project was to construct a Southern Bypass of Huntsville from Memorial Parkway near Hobbs Island Road to Interstate Highway 565 (I-565) and to construct an extension of Weatherly Road to the proposed bypass. The proposed Southern Bypass would have been a controlled access divided roadway with frontage roads.

The ROD for the project was issued in July 19, 1996. The FHWA has determined, in conjunction with ALDOT, the ROD and the FEIS for the project shall be rescinded due to objections raised by Redstone Arsenal. The Arsenal objected to a public roadway passing through Arsenal property due to increased security concerns.

Any future Federal-aid actions within this corridor will comply with environmental review requirements of the National Environmental Policy Act (NEPA, 42 U.S.C. 4321, et seq.), FHWA environmental regulations (23 CFR 771) and related authorities, as appropriate.

Authority: 23 U.S.C. 315; 49 CFR 1.48.

(Catalog of Federal Domestic Assistance Program Number 20.205, Highway Planning and Construction. The regulations implementing Executive Order 12372 regarding intergovernmental consultation on Federal programs and activities apply to this program.)

Issued on: August 20, 2018.
Mark Bartlett,
Division Administrator, Federal Highway Administration, Montgomery, Alabama.

[FR Doc. 2018-18665 Filed 8-27-18; 8:45 am]

BILLING CODE 4910-22-P